DEPARTMENT OF COMMERCE

National Oceanic and Atmospheric Administration

[RTID 0648-XB977]

Council Coordination Committee Meeting

AGENCY: National Marine Fisheries Service (NMFS), National Oceanic and Atmospheric Administration (NOAA), Commerce.

ACTION: Notice; public meeting.

SUMMARY: The Mid-Atlantic Fishery Management Council will host a meeting of the Council Coordination Committee (CCC), consisting of the Regional Fishery Management Council (Council) chairs, vice chairs, and executive directors from May 17 to May 19, 2022. The intent of this meeting is to discuss issues of relevance to the Councils and NMFS, including issues related to the implementation of the Magnuson-Stevens Fishery Conservation and Management Reauthorization Act (MSA).

DATES: Registration for the meeting will begin at 3 p.m. on Monday, May 16, 2022. The substantive meeting topics begin at 1 p.m. on Tuesday, May 17, 2022 and recess at 5:15 p.m. or when business is complete. The meeting will reconvene at 9 a.m. on Wednesday, May 18, 2022 and recess at 5 p.m. or when business is complete. The meeting will reconvene on the final day at 9 a.m. on Thursday, May 19, 2022 and adjourn by 1 p.m. or when business is complete.

ADDRESSES:

Meeting address: The meeting will be held at the Annapolis Waterfront Hotel, 80 Compromise Street, Annapolis, MD 21401; telephone: (410) 268-7555.

The meeting will also be broadcast via webinar. Connection details and public comment instructions will be available at http://www.fisherycouncils.org/ccc-meetings/may-2022.

Council address: The Mid-Atlantic Council address is 800 North State Street, Suite 201, Dover, DE 19901-3910.

FOR FURTHER INFORMATION CONTACT: Christopher M. Moore, Ph.D., Executive Director, Mid-Atlantic Fishery Management Council, telephone: (302) 526-5255.

SUPPLEMENTARY INFORMATION: The 2007 reauthorization of the Magnuson-Stevens Fishery Conservation and Management Act established the CCC. The CCC consists of the chairs, vice chairs, and executive directors of each of the eight Regional Fishery Management Councils, or their respective proxies. All sessions are open to the public and time will be set aside for public comments at the end of each day and after specific sessions at the discretion of the meeting Chair. The meeting Chair will announce public comment times and instructions to provide comment at the start of each meeting day. There will be opportunities for public comments to be provided in-person and remotely via phone/webinar. Updates to this meeting, briefing materials, public comment instructions and additional information will be posted when available on https://www.fisheries.noaa.gov/national/partners/council-coordination-committee and http://www.fisherycouncils.org/ccc-meetings/may-2022.

Proposed Agenda

Tuesday, May 17, 2022, 1 p.m.-5:15 p.m., EDT

1. Welcome and Introduction; Approval of Agenda and Minutes

2. NMFS Update and Upcoming Priorities

3. Funding and Budget Update

4. NMFS Science Update

5. Legislative Outlook

6. Public Comment

Adjourn Day 1

Wednesday, May 18, 2022, 9 a.m.-5 p.m., EDT

7. Climate Change and Fisheries

8. America the Beautiful/Area-Based Management

9. Recreational Fisheries Management

10. Management Strategy Evaluations

11. National Seafood Strategy

12. Public Comment

Adjourn Day 2

Thursday, May 19, 2022, 9 a.m.-1 p.m., EDT

13. Environmental Justice

14. Report on National Fish Habitat Board

15. International Affairs

16. Integration of ESA Section 7 with MSA

17. CCC Committees/Work Group Reports

18. Public Comment

19. Wrap Up and Other Business

Adjourn Day 3

The timing and order in which agenda items are addressed may change as required to effectively address the issues. The CCC will meet as late as necessary to complete scheduled business.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Shelley Spedden, (302) 526-5251, at least 5 days prior to the meeting date.

Authority: 16 U.S.C.1801 et seq.

Dated: April 22, 2022.
Tracey L. Thompson,
Acting Deputy Director, Office of Sustainable Fisheries, National Marine Fisheries Service.

[FR Doc. 2022-08998 Filed 4-26-22; 8:45 am]

BILLING CODE 3510-22-P